DEPARTMENT OF THE INTERIOR

National Park Service

[NPS-WASO-NRNHL-DTS#-28322; PPWOCRADI0, PCU00RP14.R50000]

National Register of Historic Places; Notification of Pending Nominations and Related Actions

AGENCY: National Park Service, Interior.

ACTION: Notice.

SUMMARY: The National Park Service is soliciting comments on the significance of properties nominated before June 22, 2019, for listing or related actions in the National Register of Historic Places.

DATES: Comments should be submitted by July 18, 2019.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before June 22, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

MICHIGAN

Calhoun County

Record Printing and Box Company Building, 15 Carlyle St., Battle Creek, SG100004225.

Wayne County

Checker Cab Taxi Garage and Office Building, 2128 Trumbull Ave., Detroit, SG100004226.

MISSOURI

Cape Girardeau County

Fort D, 920 Fort St., Cape Girardeau, SG100004219.

Laclede County

Rice-Stix Building, The, 200 E. Commercial St., Lebanon, SG100004220.

NEW MEXICO

Chaves County

Henge, The, 3600 La Joya Rd., Roswell vicinity, SG100004221.

UTAH

Sanpete County

Pectol-Works House, 96 West 400 North, Manti, SG100004223.

A request to move has been received for the following resources:

SOUTH DAKOTA

Hutchinson County

Deckert, Ludwig, House, (German-Russian Folk Architecture TR), 880 S. Cedar St., Freeman, MV84003309.

Authority: 36 CFR 60.13.

Dated: June 26, 2019.
Christopher Hetzel,
Acting Chief, National Register of Historic Places/National Historic Landmarks Program.

[FR Doc. 2019-14200 Filed 7-2-19; 8:45 am]

BILLING CODE 4312-52-P